DEPARTMENT OF ENERGY

Federal Energy Regulatory Commission

Combined Notice of Filings #1

Take notice that the Commission received the following electric corporate filings:

Docket Numbers: EC18-87-000.

Applicants: NextEra Energy Duane Arnold, LLC.

Description: Application for Authorization Under Section 203 of the Federal Power Act and Request for Expedited Action of NextEra Energy Duane Arnold, LLC.

Filed Date: 4/20/18.

Accession Number: 20180420-5247.

Comments Due: 5 p.m. ET 5/11/18.

Take notice that the Commission received the following exempt wholesale generator filings:

Docket Numbers: EG18-76-000.

Applicants: CED Wistaria Solar, LLC.

Description: Self-Certification of EG or FC of CED Wistaria Solar, LLC.

Filed Date: 4/23/18.

Accession Number: 20180423-5174.

Comments Due: 5 p.m. ET 5/14/18.

Docket Numbers: EG18-77-000.

Applicants: Walnut Ridge Wind, LLC.

Description: Self-Certification of EG of Walnut Ridge Wind, LLC.

Filed Date: 4/23/18.

Accession Number: 20180423-5193.

Comments Due: 5 p.m. ET 5/14/18.

Take notice that the Commission received the following electric rate filings:

Docket Numbers: ER17-1376-003.

Applicants: Midcontinent Independent System Operator, Inc.

Description: Compliance filing: 2018-04-23_Compliance filing of Stored Energy Resource-Type II to be effective 12/1/2017.

Filed Date: 4/23/18.

Accession Number: 20180423-5066.

Comments Due: 5 p.m. ET 5/14/18.

Docket Numbers: ER18-1410-000.

Applicants: Midcontinent Independent System Operator, Inc.

Description: § 205(d) Rate Filing: 2018-04-20_Merchant HVDC Filing to be effective 7/19/2018.

Filed Date: 4/20/18.

Accession Number: 20180420-5230.

Comments Due: 5 p.m. ET 5/11/18.

Docket Numbers: ER18-1411-000.

Applicants: RE Gaskell West LLC.

Description: Baseline eTariff Filing: Filing of LGIA Co-Tenancy Agreement to be effective 4/21/2018.

Filed Date: 4/20/18.

Accession Number: 20180420-5231.

Comments Due: 5 p.m. ET 5/11/18.

Docket Numbers: ER18-1412-000.

Applicants: RE Astoria LLC.

Description: § 205(d) Rate Filing: Filing of Amended Shared Facilities Agreement to be effective 4/21/2018.

Filed Date: 4/20/18.

Accession Number: 20180420-5232.

Comments Due: 5 p.m. ET 5/11/18.

Docket Numbers: ER18-1413-000.

Applicants: ITC Midwest LLC.

Description: § 205(d) Rate Filing: Filing of a Master JUA for Distribution Underbuild with Maquoketa Valley REC to be effective 6/22/2018.

Filed Date: 4/23/18.

Accession Number: 20180423-5065.

Comments Due: 5 p.m. ET 5/14/18.

Docket Numbers: ER18-1414-000.

Applicants: ITC Midwest LLC.

Description: § 205(d) Rate Filing: Filing of a Joint Use Agreement with Great River Energy to be effective 6/22/2018.

Filed Date: 4/23/18.

Accession Number: 20180423-5092.

Comments Due: 5 p.m. ET 5/14/18.

Docket Numbers: ER18-1415-000.

Applicants: Allegheny Energy Supply Company, LLC.

Description: Tariff Cancellation: Cancel Rate schedule FERC NO 13 to be effective 3/1/2018.

Filed Date: 4/23/18.

Accession Number: 20180423-5130.

Comments Due: 5 p.m. ET 5/14/18.

Docket Numbers: ER18-1416-000.

Applicants: CED Wistaria Solar, LLC.

Description: Baseline eTariff Filing: CED Wistaria Solar, LLC to be effective 4/24/2018.

Filed Date: 4/23/18.

Accession Number: 20180423-5132.

Comments Due: 5 p.m. ET 5/14/18.

Docket Numbers: ER18-1417-000.

Applicants: Michigan Electric Transmission Company, LLC.

Description: Tariff Cancellation: Cancellation of METC Rate Schedule No. 64 to be effective 4/17/2018.

Filed Date: 4/23/18.

Accession Number: 20180423-5133.

Comments Due: 5 p.m. ET 5/14/18.

Docket Numbers: ER18-1418-000.

Applicants: Westar Energy, Inc.

Description: § 205(d) Rate Filing: Amendment, OATT Section 28.5, Real Power Losses to be effective 6/28/2018.

Filed Date: 4/23/18.

Accession Number: 20180423-5171.

Comments Due: 5 p.m. ET 5/14/18.

Docket Numbers: ER18-1419-000.

Applicants: Walnut Ridge Wind, LLC.

Description: Baseline eTariff Filing: Walnut Ridge Application for Market-Based Rates to be effective 6/25/2018.

Filed Date: 4/23/18.

Accession Number: 20180423-5186.

Comments Due: 5 p.m. ET 5/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2018.
Nathaniel J. Davis, Sr.,
Deputy Secretary.

[FR Doc. 2018-08859 Filed 4-26-18; 8:45 am]

BILLING CODE 6717-01-P